DEPARTMENT OF VETERANS AFFAIRS

[OMB Control No. 2900-0085]

Agency Information Collection (Appeal to Board of Veterans' Appeals) Activity Under OMB Review

AGENCY: Board of Veterans' Appeals, Department of Veterans Affairs.

ACTION: Notice; correction

SUMMARY: The Department of Veterans Affairs (VA) published a collection of information notice in a Federal Register February 19, 2015, that contained an error. The notice incorrectly stated the agency as “Office of Acquisition, Logistics and Construction, Department of Veterans Affairs.” This document corrects the error by correcting the name of the agency.

FOR FURTHER INFORMATION CONTACT: Crystal Rennie, Enterprise Records Service (005R1B), Department of Veterans Affairs, 810 Vermont Avenue NW., Washington, DC 20420, at 202-632-7492.

Correction

In FR Doc. 2015-03425, published on February 19, 2015, at 80 FR 8952 make the following correction. On page 8952, at the top of the page, the name of the agency should read as follows:

AGENCY: Board of Veterans' Appeals, Department of Veterans Affairs.

By direction of the Secretary.
Crystal Rennie,
Department Clearance Officer, Department of Veterans Affairs.

[FR Doc. 2015-12369 Filed 5-21-15; 8:45 am]

BILLING CODE 8320-01-P